DEPARTMENT OF HEALTH AND HUMAN SERVICES

National Institutes of Health

Center for Scientific Review; Amended Notice of Meeting

Notice is hereby given of a change in the meeting of the Dissemination and Implementation Research in Health Study Section, October 1, 2013, 08:00 a.m. to October 1, 2013, 05:00 p.m., Embassy Suites at the Chevy Chase Pavilion, 4300 Military Road NW., Washington, DC 20015, which was published in the Federal Register on September 5, 2013, 78 FR 172 Pgs. 54664-54665.

The meeting will be held at the National Institutes of Health, 6701 Rockledge Dr., Bethesda, MD 20892. The meeting will start on December 9, 2013 at 10:00 a.m. and end December 9, 2013 at 7:00 p.m. The meeting is closed to the public.

Dated: October 29, 2013.
Michelle Trout,
Program Analyst, Office of Federal Advisory Committee Policy.

[FR Doc. 2013-26228 Filed 11-1-13; 8:45 am]

BILLING CODE 4140-01-P